DEPARTMENT OF TRANSPORTATION

Federal Aviation Administration

Notice of Intent To Rule on Request To Release Airport Property at the Dubois Regional Airport, Reynoldsville, PA

AGENCY: Federal Aviation Administration (FAA) DOT.

ACTION: Notice of request to release airport property.

SUMMARY: The FAA proposes to rule and invite public comment on the release of 11.47 acres of land at the Dubois Regional Airport, Reynoldsville, Pennsylvania under the provisions of Section 47125(a) of Title 49 United States Code (U.S.C.).

DATES: Comments on this application must be received on or before April 2, 2012. Comments should be mailed or delivered to the addresses listed below.

ADDRESSES: Documents are available for review, by appointment, at the following addresses:

Robert W. Shaffer, Manager, Dubois Regional Airport, 377 Aviation Way, Reynoldsville, PA 15851.

and at the FAA Harrisburg Airports District Office:

Lori K. Pagnanelli, Manager, Harrisburg Airports District Office, 3905 Hartzdale Dr., Suite 508, Camp Hill, PA 17011.

FOR FURTHER INFORMATION CONTACT: Susan L. McDonald, Environmental Protection Specialist, Harrisburg Airports District Office location listed above.

SUPPLEMENTARY INFORMATION: The FAA invites public comment on the request to release property at the Dubois Regional Airport under the provisions of Section 47125(a) of Title 49 U.S.C. The FAA has determined that the request to release property at the Dubois Regional Airport (DUJ), Pennsylvania, submitted by the Clearfield-Jefferson Counties Regional Airport Authority (Authority), meets the procedural requirements.

The following is a brief overview of the request:

The Authority requests the release of real property totaling 11.47 acres of non-aeronautical airport property to Orion Drilling Company of Corpus Christi, TX. The land was originally purchased with federal funds in 1988, AIP Grant 3-42-0023-05-88. In 2007, the Authority requested, and FAA approved, a change in use from aeronautical use to non-aeronautical use of three parcels of land (Lots 1, 2, and 3), totaling 36.33 acres of the Air Commerce Park. The subject 11.47 acres of this request is Lot 2 of the 36.33 acre Air Commence Park. Lot 2 of the Air Commence Park is currently undeveloped property. It is located on the southwest corner within the Air Commerce Park, which is directly north of the main DuBois Regional Airport parking lot and south of State Route 830. Orion Drilling Company of Corpus Christi, TX is proposing to develop the property and erect two buildings, an office and a warehouse, to store and maintain drilling units for the Marcellus shale gas industry. The subject land does not serve an aeronautical purpose and is not needed for airport development, as shown on the Airport Layout Plan for the Dubois Regional Airport. Fair Market Value (FMV) will be obtained from the land sale. All proceeds from the sale of the property will be used to reduce operating costs at the airport.

Any person may inspect the request by appointment at the FAA office address listed above. Interested persons are invited to comment on the proposed release from obligations. All comments will be considered by the FAA to the extent practicable.

Issued in Camp Hill, Pennsylvania, February 13, 2012.
Lori K. Pagnanelli,
Manager, Harrisburg Airports District Office.

[FR Doc. 2012-5162 Filed 3-1-12; 8:45 am]

BILLING CODE 4910-13-P